DEPARTMENT OF HEALTH AND HUMAN SERVICES

Health Resources and Services Administration

Notice of Single Source Award Based on Non-Statutory Earmark to the Delta Region Community Health Systems Development Program

AGENCY: Health Resources and Services Administration (HRSA), Department of Health and Human Services.

ACTION: Notice.

SUMMARY: The purpose of the Delta Region Community Health Systems Development Program is to support collaboration with and input from the Delta Regional Authority to develop a pilot program to help underserved rural communities in the Delta region identify and better address their health care needs and to help small rural hospitals improve their financial and operational performance. HRSA received an additional $2,000,000 in FY 2018 to support the Delta Region Community Health Systems Development Program, increasing the total FY 2018 resources from $2,000,000 to $4,000,000. The single award recipient, the Rural Health Resource Center has a need for additional funds to support activities performed within the scope of this program. The center will use a multipronged approach to deliver phased-in technical assistance (TA) to all eight Delta Region communities.

ADDRESSES: Further information on the Delta Region Community Health Systems Development Program is available at: https://www.hrsa.gov/ruralhealth/programopportunities/fundingopportunities/?id=8d869eff-0bca-4703-a821-88a9f0433b73.

FOR FURTHER INFORMATION CONTACT: Rachel Moscato, Program Coordinator, Delta Region Community Health Systems Development, Federal Office of Rural Health Policy, HRSA, RMoscato@hrsa.gov.

Background

The Delta Region Community Health Systems Development program is authorized by Section 711(b) of the Social Security Act, (42 U.S.C. 912 (b)), as amended.

HRSA established the Delta Region Community Health Systems Development Program in FY 2017, under announcement HRSA-17-117, providing up to $2,000,000 per year to one awardee, the Rural Health Resource Center for a three-year project period: September 30, 2017 through September 29, 2020. The FY 2018 House Report 115-244 and Senate Report 115-150 Division H of the Consolidated Appropriations Act of 2018 (Pub. L. 115-141) provided direction that an additional $2,000,000 included in the appropriation to be used to support the Delta Program. HRSA plans to increase the maximum funding per year for the Delta Region Community Health Systems Development Program to $4,000,000 for one award recipient in FY 2018, as well as in subsequent budget periods within the three-year project period, should funds become available.

Conclusion

HRSA will provide $2,000,000 in additional resources to the current award recipient, the Rural Health Resource Center in FY 2018 to support additional activities within the scope of the Delta Region Community Health Systems Development Program. The recipient will utilize its existing infrastructure and a multipronged approach to deliver intensive assistance to all eight Delta Region communities, including onsite assessments in financial, operational performance, and quality improvement in the areas of population health, social services, emergency medical services, and telehealth. Please direct any questions or concerns to RMoscato@hrsa.gov.

Dated: May 31, 2018.
George Sigounas,
Administrator.

[FR Doc. 2018-12141 Filed 6-5-18; 8:45 am]

BILLING CODE 4165-15-P